DEPARTMENT OF ENERGY

Federal Energy Regulatory Commission

Combined Notice of Filings

Take notice that the Commission has received the following Natural Gas Pipeline Rate and Refund Report filings:

Filings Instituting Proceedings

Docket Numbers: RP16-375-000.

Applicants: Gas Transmission Northwest LLC.

Description: Interruptible Transportation Revenue Refund Report for the Coyote Springs Lateral of Gas Transmission Northwest LLC under RP16-375.

Filed Date: 1/11/16.

Accession Number: 20160111-5190.

Comments Due: 5 p.m. ET 1/25/16.

Docket Numbers: RP16-376-000.

Applicants: Equitrans, L.P.

Description: Section 4(d) Rate Filing: Assignment Update to be effective 2/11/2016.

Filed Date: 1/11/16.

Accession Number: 20160111-5295.

Comments Due: 5 p.m. ET 1/25/16.

Docket Numbers: RP16-377-000.

Applicants: Equitrans, L.P.

Description: Section 4(d) Rate Filing: Negotiated Capacity Release Agreements—01/11/2016 to be effective 1/11/2016.

Filed Date: 1/11/16.

Accession Number: 20160111-5320.

Comments Due: 5 p.m. ET 1/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2016.
Nathaniel J. Davis, Sr.,
Deputy Secretary.

[FR Doc. 2016-00932 Filed 1-19-16; 8:45 am]

BILLING CODE 6717-01-P